DEPARTMENT OF THE INTERIOR

National Park Service

[NPS-WASO-NAGPRA-NPS0027541; PPWOCRADN0-PCU00RP14.R50000]

Notice of Inventory Completion: Oregon Parks and Recreation Department, Salem, OR, and Oregon State University, Department of Anthropology, Corvallis, OR

AGENCY: National Park Service, Interior.

ACTION: Notice.

SUMMARY: The Oregon State University, Department of Anthropology and the Oregon Parks and Recreation Department (OPRD) have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the OPRD. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the OPRD at the address in this notice by May 24, 2019.

ADDRESSES: Nancy Nelson, Oregon Parks and Recreation Department Archaeologist, 725 Summer Street NE, Suite C, Salem, OR 97301 telephone (503) 986-0578.

SUPPLEMENTARY INFORMATION: Notice is here given in accordance with the Native American Graves Protection and Repatriation Act (NAGPRA), 25 U.S.C. 3003, of the completion of an inventory of human remains and associated funerary objects under the control of the Oregon Parks and Recreation Department, Salem, OR, and in the custody of the Oregon State University, Department of Anthropology, Corvallis, OR. The human remains and associated funerary objects were removed from Site 35CS3, Bullard's Beach State Park, Coos County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Oregon Parks and Recreation Department and Oregon State University, Department of Anthropology professional staff in consultation with representatives of the Confederated Tribes of Siletz Reservation of Oregon (previously listed as the Confederated Tribes of the Siletz Reservation); Confederated Tribes of the Coos, Lower Umpqua and Siuslaw Indians; and the Coquille Indian Tribe (previously listed as the Coquille Tribe of Oregon). The Burns Paiute Tribe (previously listed as the Burns Paiute Tribe of the Burns Paiute Indian Colony of Oregon); Confederated Tribes of the Grand Ronde Community of Oregon; Confederated Tribes of the Warm Springs Reservation of Oregon; Cow Creek Band of Umpqua Tribe of Indians (previously listed as the Cow Creek Band of Umpqua Indians of Oregon); and the Klamath Tribes were invited to consult but did not participate. Hereafter, all the Indian Tribes listed in this section are referred to as “The Consulted and Notified Tribes.”

History and Description of the Remains

In 1974, human remains representing, at minimum, two individuals were removed from Site 35CS3, Bullard's Beach State Park, Bandon, Coos County, OR. The excavation, undertaken by the Department of Anthropology at Oregon State University (OSU) at the request of the OPRD was for the purpose of salvaging burials eroding out of the river near the boat landing in Bullards Beach State Park. No known individuals were identified.

Most of the human remains belonging to these two individuals were returned to the Coquille Indian Tribe for reburial in 1987. The human remains in this notice were not returned at that time. The 27 associated funerary objects are one lot of unknown metal fragments; one lot of wood and shell fragments; two lithics; three lots of shell fragments; one lot of seed and bone fragments; one lot of flakes; one lithic; one lot of unidentified bone fragments and lithics; three lots of lithic fragments; one lot of shell and bone fragments; one lot of fire cracked rock; one lot of unidentified shell fragments; two lots of mussel shell fragments; one metal spike; and seven lots of lithic material.

The Hanis and Miluk Coos were known as the Coos Bay Indians in 1935 when the Coos Indians asserted in the United States Court of Claims that their aboriginal land extended two miles south of the Coquille River. The Hanis Coos, who inhabited the Coos Bay area and points south as far as Tarheel or Pigeon Point, are the ancestors of the modern day Coos section of the Confederated Tribes of Coos, Lower Umpqua and Siuslaw Indians. The Coquille Indian Tribe and the Confederated Tribes of Coos, Lower Umpqua and Siuslaw Indians include descendants of the Miluk Coos. Beginning around Pigeon Point, including South Slough, and going south to the mouth of the Coquille River, the language spoken in the lower Coos Bay area was Miluk. The Upper Coquille shared the Coquille River watershed with the Miluk Coos. The Confederated Tribes of the Siletz Reservation, Oregon, are a confederation of 30 bands whose ancestral territory ranged along the entire Oregon coast and Coast Range, inland to the main divide of the Cascade Range and southward to the Rogue River watershed. The principal tribes include the Clatsop, Chinook, Klickitat, Molala, Kalapuya, Tillamook, Alsea, Siuslaw/Lower Umpqua, Coos, Coquille, Upper Umpqua, Tututni, Chetco, Tolowa, Takelma or Upper Rogue River, Galice/Applegate and Shasta. The ancestors of the Confederated Tribes of the Siletz Reservation spoke at least 10 different base languages. In general, five linguistic stocks—Salish, Yakonan, Kusan, Takelman, and Athapascan—are represented by the tribes. The tribes were forcibly removed from their homelands in 1855 and placed on the Siletz and Grand Ronde reservations. Federal recognition of the tribes was terminated in 1954, but in 1977 the Confederated Tribes of the Siletz Reservation, Oregon, were officially restored to recognized status. Historical, geographic, and linguistic evidence indicates the Confederated Tribes of the Siletz Indians of Oregon and the Coquille Indian Tribe are the most closely associated descendants of site 35CS3.

Determinations Made by the Oregon Parks and Recreation Department

Officials of the Oregon Parks and Recreation Department have determined that:

• Pursuant to 25 U.S.C. 3001(9), the human remains described in this notice represent the physical remains of two individuals of Native American ancestry.

• Pursuant to 25 U.S.C. 3001(3)(A), the 27 objects described in this notice are reasonably believed to have been placed with or near individual human remains at the time of death or later as part of the death rite or ceremony.

• Pursuant to 25 U.S.C. 3001(2), there is a relationship of shared group identity that can be reasonably traced between the Native American human remains and associated funerary objects and the Confederated Tribes of Siletz Indians of Oregon (previously listed as the Confederated Tribes of the Siletz Reservation) and the Coquille Indian Tribe (previously listed as the Coquille Tribe of Oregon).

Additional Requestors and Disposition

Lineal descendants or representatives of any Indian Tribe or Native Hawaiian organization not identified in this notice that wish to request transfer of control of these human remains and associated funerary objects should submit a written request with information in support of the request to Nancy Nelson, Oregon Parks and Recreation Department Archaeologist, 725 Summer Street NE, Suite C, Salem, OR 97301, telephone (503) 986-0578, by May 24, 2019. After that date, if no additional requestors have come forward, transfer of control of the human remains and associated funerary objects to the Confederated Tribes of Siletz Indians of Oregon (previously listed as the Confederated Tribes of the Siletz Reservation) and the Coquille Indian Tribe (previously listed as the Coquille Tribe of Oregon) may proceed.

The Oregon Parks and Recreation Department is responsible for notifying The Consulted and Notified Tribes that this notice has been published.

Dated: March 25, 2019.
Melanie O'Brien,
Manager, National NAGPRA Program.

[FR Doc. 2019-08228 Filed 4-23-19; 8:45 am]

BILLING CODE 4312-52-P